SMALL BUSINESS ADMINISTRATION

[Declaration of Economic Injury Disaster #9R32]

State of California

Tulare County and the contiguous counties of Fresno, Inyo, Kern and Kings Counties in the State of California constitute an economic injury disaster area as a result of a fire that began on July 21, 2002 and is currently still burning in Tulare County. Eligible small businesses and small agricultural cooperatives without credit available elsewhere may file applications for economic injury assistance for this disaster until the close of business on June 5, 2003 at the address listed below or other locally announced locations: Small Business Administration, Disaster Area 4 Office, P. O. Box 13795, Sacramento, CA 95853-4795.

The interest rate for eligible small businesses and small agricultural cooperatives is 3.5 percent.

The number assigned for economic injury for this disaster is 9R3200.

(Catalog of Federal Domestic Assistance Program No. 59002)

Dated: September 5, 2002.
Hector V. Barreto,
Administrator.

[FR Doc. 02-23408 Filed 9-13-02; 8:45 am]

BILLING CODE 8025-01-P